DEPARTMENT OF TRANSPORTATION

Federal Aviation Administration

14 CFR Part 73

[Docket No. FAA-2005-21958; Airspace Docket No. 05-ASO-5]

RIN 2120-AA66

Revocation of Restricted Area R-7104; Vieques Island, PR

AGENCY: Federal Aviation Administration (FAA), DOT.

ACTION: Final rule.

SUMMARY: This action revokes Restricted Area R-7104, Vieques Island, PR. The U.S. Navy weapons range on Vieques Island has been permanently closed; therefore, restricted airspace is no longer required at that location. The FAA is taking this action to return restricted airspace to the National Airspace System.

DATES: Effective 0901 UTC, October 27, 2005.

FOR FURTHER INFORMATION CONTACT: Paul Gallant, Airspace and Rules, Office of System Operations and Safety, Federal Aviation Administration, 800 Independence Avenue, SW., Washington, DC 20591; telephone (202) 267-8783.

SUPPLEMENTARY INFORMATION

Background

Restricted Area R-7104, Vieques Island, PR, supports a weapons range assigned to the Atlantic Fleet Weapons Training Facility, and is used for a variety of hazardous activities including surface-to-surface and air-to-surface weapons delivery training. In May 2003, the Vieques Island range was permanently closed. Consequently, the U.S. Navy no longer has a need to maintain restricted airspace at that location.

The Rule

This action amends Title 14 Code of Federal Regulations (14 CFR) part 73 by revoking R-7104, Vieques Island, PR. The FAA is taking this action at the request of the U.S. Navy, which no longer has a requirement for the airspace.

Since this action revokes restricted airspace, the solicitation of comments would only delay the return of airspace to public use without offering any meaningful right or benefit to any segment of the public; therefore, notice and public procedure under 5 U.S.C. 553(b) are unnecessary.

This regulation is limited to an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for a categorical exclusion under the National Environmental Policy Act in accordance with 311c., FAA Order 1050.1E, “Environmental Impacts: Policies and Procedures.” There are no extraordinary circumstances that would require additional environmental analysis.

List of Subjects in 14 CFR Part 73

Airspace, Prohibited Areas, Restricted Areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.71 [Amended]

2. § 73.71 is amended as follows:

* * * * *

R-7104 Vieques Island, PR [Revoked]

* * * * *

Issued in Washington, DC, on July 27, 2005.
Edith V. Parish,
Acting Manager, Airspace and Rules.

[FR Doc. 05-15556 Filed 8-5-05; 8:45 am]

BILLING CODE 4910-13-P